DEPARTMENT OF VETERANS AFFAIRS

Privacy Act of 1974; System of Records

AGENCY: Department of Veterans Affairs.

ACTION: Notice to Delete System of Records.

SUMMARY: The Department of Veterans Affairs (VA) is deleting a system of records entitled “Center for Minority Veterans Management Information System-VA” (95VA00M), which was established at 64 FR 23900, dated May 4, 1999. The system was to maintain an automated database containing demographic data on veterans that the Center may use to analyze trends on how VA serves minority veterans. This system of records is being deleted because this program was never active in the Center for Minority Veterans and the records were never collected. When requested, the Department's Office of Policy, Preparedness and Planning has the appropriate personnel, knowledge and ability to provide statistical analysis of minority veterans' utilization of VA business lines for the CMV to meet its mission.

A “Report of Intention to Publish a Federal Notice of Deletion of a System of Records” and a copy of the deletion of system notice have been provided to the appropriate Congressional committees and to the Office of Management and Budget (OMB), as required by 5 U.S.C. 552a(r) and guidelines issued by OMB, 65 FR 77677 (Dec. 12, 2000).

DATES: Effective Date: June 2, 2009

FOR FURTHER INFORMATION CONTACT: Renaee Allen, Center for Minority Veterans (00M), Department of Veterans Affairs, 810 Vermont Avenue, NW., Washington, DC 20420, Telephone: (202) 461-6191 (this is not a toll-free number).

Approved: May 13, 2009.
John R. Gingrich,
Chief of Staff, Department of Veteran Affairs.

[FR Doc. E9-12779 Filed 6-1-09; 8:45 am]

BILLING CODE 8320-01-P